SMALL BUSINESS ADMINISTRATION

[Declaration of Disaster #3575]

State of Texas

Robertson County and the contiguous counties of Brazos, Burleson, Falls, Leon, Limestone, Madison and Milam in the State of Texas constitute a disaster area due to severe storms and flooding that occurred on May 13, 2004. Applications for loans for physical damage as a result of this disaster may be filed until the close of business on July 20, 2004, and for economic injury until the close of business on February 21, 2005, at the address listed below or other locally announced locations: U.S. Small Business Administration, Disaster Area 3 Office, 14925 Kingsport Road, Fort Worth, TX 76155-2243.

The interest rates are:

| Percent
For Physical Damage:
Homeowners with credit available elsewhere | 5.750
Homeowners without credit available elsewhere | 2.875
Businesses with credit available elsewhere | 5.500
Businesses and non-profit organizations without credit available elsewhere | 2.750
Others (including non-profit organizations) with credit available elsewhere | 4.875
For Economic Injury:
Businesses and small agricultural cooperatives without credit available elsewhere | 2.750

The number assigned to this disaster for physical damage is 357511 and for economic injury the number is 9ZE500.

(Catalog of Federal Domestic Assistance Program Nos. 59002 and 59008.)
Dated: May 21, 2004.
Hector V. Barreto,
Administrator.

[FR Doc. 04-12051 Filed 5-26-04; 8:45 am]

BILLING CODE 8025-01-P